NUCLEAR REGULATORY COMMISSION

[Docket No. 72-22-ISFSI; ASLBP No. 97-732-02-ISFSI]

Private Fuel Storage, L.L.C.; Notice of Reconstitution

Pursuant to 10 CFR 2.721, the Atomic Safety and Licensing Board chaired by Administrative Judge Michael C. Farrar in the above captioned Private Fuel Storage, L.L.C. proceeding is hereby reconstituted by appointing Administrative Judge Paul B. Abramson in place of Administrative Judge Jerry R. Kline.

In accordance with 10 CFR 2.701, henceforth all correspondence, documents, and other material relating to any matter in this proceeding over which the Licensing Board chaired by Administrative Judge Farrar has jurisdiction should be served on Administrative Judge Abramson as follows: Administrative Judge Paul B. Abramson, Atomic Safety and Licensing Board Panel, U.S. Nuclear Regulatory Commission, Washington, DC 20555-0001.

Issued at Rockville, Maryland, this 29th day of January, 2004.
G. Paul Bollwerk, III,
Chief Administrative Judge, Atomic Safety and Licensing Board Panel.

[FR Doc. E4-181 Filed 2-3-04; 8:45 am]

BILLING CODE 7590-01-P